COMMITTEE FOR PURCHASE FROM PEOPLE WHO ARE BLIND OR SEVERELY DISABLED

Procurement List Proposed Additions and Deletions

AGENCY: Committee for Purchase From People Who Are Blind or Severely Disabled.

ACTION: Proposed additions to and deletions from procurement list.

SUMMARY: The Committee is proposing to add to the Procurement List services to be furnished by nonprofit agencies employing persons who are blind or have other severe disabilities, and to delete products and services previously furnished by such agencies. Comments must be received on or before: September 14, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

(End of Certification)

The following services are proposed for addition to the Procurement List for production by the nonprofit agencies listed:

Services

Service Type/Location: Custodial Services, FAA, New Air Traffic Control Tower & Administrative Office Space, Located on 3rd & 4th floor of the Old ATCT, Cleveland, Ohio.

NPA: Murray Ridge Production Center, Inc., Elyria, Ohio.

Contract Activity: Federal Aviation Administration, North Olmsted, Ohio.

Service Type/Location: Janitorial/Custodial, USDA, Forest Service, Shasta Trinity National Forest, Redding, California.

NPA: Shasta County Opportunity Center, Redding, California.

Contract Activity: USDA, Northern Province Operations, Redding, California.

Deletions

Regulatory Flexibility Act Certification

I certify that the following action will not have a significant impact on a substantial number of small entities. The major factors considered for this certification were:

1. If approved, the action will not result in any additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

(End of Certification)

The following products and services are proposed for deletion from the Procurement List:

Products

Product/NSN: Bag, Vacuum Cleaner, Disposable, M.R. 1001, M.R. 1002, M.R. 1003, M.R. 1004, M.R. 1005, M.R. 1006, M.R. 1007, M.R. 1008.

NPA: New York City Industries for the Blind, Inc., Brooklyn, New York.

Contract Activity: Defense Commissary Agency, Fort Lee, Virginia.

Product/NSN: Broom, Whisk, M.R. 909.

NPA: None currently authorized.

Contract Activity: Defense Commissary Agency (DeCA), Ft. Lee, Virginia.

Product/NSN: Dustpan, M.R. 995.

NPA: None currently authorized.

Contract Activity: Defense Commissary Agency (DeCA), Ft. Lee, Virginia.

Product/NSN: Egg Slicer, M.R. 843.

NPA: Alabama Industries for the Blind, Talladega, Alabama.

Contract Activity: Defense Commissary Agency (DeCA), Ft. Lee, Virginia.

Product/NSN: Fabric Softener Sheets, Reusable, M.R. 520.

NPA: Industries of the Blind, Inc., Greensboro, North Carolina.

Contract Activity: Defense Commissary Agency (DeCA), Ft. Lee, Virginia.

Product/NSN: Kitchen, Utensils, M.R. 821.

NPA: Cincinnati Association for the Blind, Cincinnati, Ohio.

Contract Activity: Defense Commissary Agency (DeCA), Ft. Lee, Virginia.

Product/NSN: Nylon & Plastic Kitchen Utensils, M.R. 839, M.R. 840.

NPA: The Lighthouse for the Blind, Inc. (Seattle Lighthouse), Seattle, Washington.

Contract Activity: Defense Commissary Agency (DeCA), Ft. Lee, Virginia.

Product/NSN: Pencil, Mechanical, Dual Action, M.R. 052.

NPA: San Antonio Lighthouse, San Antonio, Texas.

Contract Activity: Defense Commissary Agency (DeCA), Ft. Lee, Virginia.

Product/NSN: Pens and Markers, M.R. 062, M.R. 063, M.R. 064, M.R. 065, M.R. 066, M.R. 067.

NPA: West Texas Lighthouse for the Blind, San Angelo, Texas.

Contract Activity: Defense Commissary Agency (DeCA), Ft. Lee, Virginia.

Product/NSN: Potpourri, M.R. 400, M.R. 401, M.R. 403.

NPA: Envision, Inc., Wichita, Kansas.

Contract Activity: Defense Commissary Agency (DeCA), Ft. Lee, Virginia.

Product/NSN: PVA Mop, M.R. 1027.

NPA: The Lighthouse for the Blind, Inc. (Seattle Lighthouse), Seattle, Washington.

Contract Activity: Defense Commissary Agency (DeCA), Ft. Lee, Virginia.

Product/NSN: Scrubber, M.R. 543.

NPA: Beacon Lighthouse, Inc., Wichita Falls, Texas.

Contract Activity: Defense Commissary Agency (DeCA), Ft. Lee, Virginia.

Product/NSN: Scrubber, Sponge, M.R. 548.

NPA: Mississippi Industries for the Blind, Jackson, Mississippi.

NPA: New York City Industries for the Blind, Inc., Brooklyn, New York.

Contract Activity: Defense Commissary Agency (DeCA), Ft. Lee, Virginia.

Product/NSN: Towels, Seasonal, M.R. 1009.

NPA: Chester County Branch of the PAB, Coatesville, Pennsylvania.

Contract Activity: Defense Commissary Agency, Fort Lee, Virginia.

Product/NSN: Wipes, Scrubber, M.R. 588.

NPA: Mississippi Industries for the Blind, Jackson, Mississippi.

Contract Activity: Defense Commissary Agency (DeCA), Ft. Lee, Virginia.

Services

Service Type/Location: Food Service Attendant, Charleston Naval Weapons Station, Building 306, Charleston, South Carolina.

NPA: Goodwill Industries of Lower South Carolina, Inc., North Charleston, South Carolina.

Contract Activity: Department of the Navy.

Service Type/Location: Food Service Attendant, Charleston Naval Weapon Station, Building NS-43, Charleston, South Carolina.

NPA: Goodwill Industries of Lower South Carolina, Inc., North Charleston, South Carolina.

Contract Activity: Department of the Navy.

Service Type/Location: Food Service Attendant, Orlando Naval Training Center, Orlando, Florida.

NPA: Goodwill Industries of Central Florida, Orlando, Florida.

Contract Activity: Department of the Navy.

Service Type/Location: Janitorial/Custodial, U.S. Army Reserve Center, Memphis, Tennessee.

NPA: Shelby Residential and Vocational Services, Inc., Memphis, Tennessee.

Contract Activity: Department of the Army.

Sheryl D. Kennerly,
Director, Information Management.

[FR Doc. 03-20880 Filed 8-14-03; 8:45 am]

BILLING CODE 6353-01-P